DEPARTMENT OF DEFENSE

Office of the Secretary

[Docket ID: DoD-2013-0122]

Privacy Act of 1974; System of Records

AGENCY: National Geospatial-Intelligence Agency, DoD.

ACTION: Notice to Add a New System of Records.

SUMMARY: The National Geospatial-Intelligence Agency is establishing a new system of records in its inventory of record systems subject to the Privacy Act of 1974 (5 U.S.C. 552a(r)), as amended.

DATES: This proposed action will be effective on July 1, 2013 unless comments are received which result in a contrary determination. Comments will be accepted on or before July 1, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: National Geospatial-Intelligence Agency (NGA), ATTN: Security Specialist, Mission Support, MSRS P-12, 7500 GEOINT Drive, Springfield, VA 22150.

SUPPLEMENTARY INFORMATION: The National Geospatial-Intelligence Agency notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on November 27, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 23, 2013.
Aaron Siegel,
Alternate OSD Federal Register Liaison Officer, Department of Defense.

NGA-004

System name:

NGA Threat Mitigation Records

System location:

Records are maintained at NGA headquarters in Washington, DC metro facilities.

Categories of individuals covered by the system:

Individuals known or appropriately suspected to be or have been engaged in conduct constituting, in preparation for, in aid of, or related to terrorism (“known or suspected terrorists”), individuals who were officially detained during military operations, but not as Enemy Prisoners of War, and who have been identified to pose an actual or possible threat to national security (hereinafter military detainees).

Categories of records in the system:

Identifying information, such as name, date of birth, place of birth, biometrics, photographs, passport and/or drivers' license information, and other available identifying particulars used to compare the identity of an individual being screened with a known or suspected terrorist, including audit records containing this information.

For known or suspected terrorists, in addition to the categories of records listed above, references to and/or information from other government law enforcement and intelligence databases, or other relevant databases that may contain terrorism information.

Authority for maintenance of the system:

5 U.S.C. 301, Departmental Regulations; 10 U.S.C. Chapter 22, The National Geospatial-Intelligence Agency; 50 U.S.C. 402a, Coordination of Counterintelligence Activities; and HSPD-24, Biometrics for Identification and Screening to Enhance National Security.

Purpose(s):

NGA collects, uses, maintains, and disseminates information to facilitate NGA's counterintelligence activities, including activities related to international counterterrorism. Threat Mitigation data, which includes personally identifiable information (PII), is necessary for NGA to effectively and efficiently conduct its mission by assessing the risk and/or threat to NGA personnel, property, information and facilities posed by persons who have been deemed known or suspected terrorists or have a nexus to criminal activity.

NGA is receiving information relevant for use in authorized screening processes to assist in detecting and mitigating domestic and international threats to the United States (U.S.) and U.S. interests worldwide.

Routine uses of records maintained in the system, including categories of uses and the purposes for such uses:

In addition to those disclosures generally permitted under 5 U.S.C. 552a(b) of the Privacy Act of 1974, as amended, these records may be specifically disclosed outside of the DoD as a routine use pursuant to 5 U.S.C. a(b)(3) as follows:

The DoD Blanket Routine Uses set forth at the beginning of NGA's compilation of systems of records notices may apply to this system.

Policies and practices for storing, retrieving, accessing, retaining, and disposing of records in the system:

Storage:

Records in this system are stored electronically in secure facilities behind a locked door with strict physical access controls in place. The records are stored on magnetic disc, tape, digital media, and CD-ROM.

Retrievability:

Records may be retrieved by name or other personal identifier listed in the Categories of records section.

Safeguards:

The records are stored on a stand-alone system and are safeguarded in accordance with applicable rules and policies, including all applicable NGA automated systems security and access policies. Strict controls have been imposed to minimize the risk of compromising the information that is being stored. Access to the computer system containing the records in this system is limited to those individuals who have a need to know the information for the performance of their official duties and who have appropriate clearances or permissions. Usage of physical access controls, encryption, monitoring and auditing mechanisms protect the information stored on the system.

Retention and disposal:

Disposition pending (until the National Archives and Records Administration approve the retention and disposition of these records, treat as permanent).

System manager(s) and address:

Security and Installation Counterespionage Division, Cyber Branch (SICCC), National Geospatial-Intelligence Agency (NGA).

Notification procedure:

Individuals seeking to determine whether this system of records contains information about themselves should address written inquiries to the National Geospatial-Intelligence Agency (NGA), Freedom of Information Act/Privacy Act Office, 7500 GEOINT Drive, Springfield, VA 22150.

A request for notification must meet the requirements of 32 CFR 320.4. The request envelope and letter should both be clearly marked “Privacy Act Inquiry.”

The written request must contain your full name, current address, and date and place of birth. Also include an explanation of why you believe NGA would have information on you and specify when you believe the records would have been created.

You must sign your request and your signature must either be notarized or submitted under 28 U.S.C. 1746, a law that permits statements to be made under penalty of perjury, as a substitute for notarization.

Record access procedures:

Individuals seeking access to records about themselves contained in this system of records should address written inquiries to the National Geospatial-Intelligence Agency (NGA), Freedom of Information Act/Privacy Act Office, 7500 GEOINT Drive, Springfield, VA 22150.

A request for access must meet the requirements of 32 CFR 320.4. The request envelope and letter should both be clearly marked “Privacy Act Inquiry.”

The written request must contain your full name, current address, and date and place of birth. Also include an explanation of why you believe NGA would have information on you and specify when you believe the records would have been created.

You must sign your request and your signature must either be notarized or submitted under 28 U.S.C. 1746, a law that permits statements to be made under penalty of perjury, as a substitute for notarization.

Contesting records procedure:

Individuals contesting the accuracy of records in this system of records containing information about themselves should address written inquiries to the National Geospatial-Intelligence Agency (NGA), Freedom of Information Act/Privacy Act Office, 7500 GEOINT Drive, Springfield, VA 22150.

A request for contesting records must meet the requirements of 32 CFR 320.4. The request envelope and letter should both be clearly marked “Privacy Act Inquiry.”

The written request must contain your full name, current address, and date and place of birth. Also include an explanation of why you believe NGA would have information on you and specify when you believe the records would have been created.

You must sign your request and your signature must either be notarized or submitted under 28 U.S.C. 1746, a law that permits statements to be made under penalty of perjury, as a substitute for notarization.

Record source categories:

Records are received from the JUSTICE/FBI-019 Terrorist Screening Records System, system of records notice published in the Federal Register (76 FR 77846, December 14, 2011).

Exemptions claimed for the system:

Exempt materials from JUSTICE/FBI-019 Terrorist Screening Records System may become part of the case records in this system of records. To the extent that copies of exempt records from JUSTICE/FBI-019, Terrorist Screening Records System are entered into these Threat Mitigation case records, NGA hereby claims the same exemptions, (j)(2) and (k)(2), for the records as claimed in JUSTICE/FBI-019, Terrorist Screening Records system of records of which they are a part.

An exemption rule for this system has been promulgated in accordance with the requirements of 5 U.S.C. 553(b)(1), (2) and (3)(c) and (e) and it published at 32 CFR part 320.

[FR Doc. 2013-12876 Filed 5-30-13; 8:45 am]

BILLING CODE 5001-06-P